DEPARTMENT OF ENERGY

Federal Energy Regulatory Commission

[Project No. 12451-001]

SAF Hydroelectric, LLC (SAF); Notice of Settlement Agreement and Soliciting Comments

October 18, 2004.

Take notice that the following settlement agreement has been filed with the Commission and is available for public inspection.

a. Type of Application: Settlement Agreement (Settlement).

b. Project No.: 12451-001.

c. Date Filed: October 14, 2004.

d. Applicant: SAF Hydroelectric, LLC (SAF).

e. Name of Project: Lower St. Anthony Falls Hydroelectric Project.

f. Location: On the Mississippi River, in the Town of Minneapolis, Hennepin County, Minnesota. The project would affect 5.9 acres of land owned by the U.S. Army Corps of Engineers.

g. Filed Pursuant to: Rule 602 of the Commission's Rules of Practice and Procedure, 18 CFR 385.602.

h. Applicant Contact: Douglas A. Spaulding P.E., Spaulding Consultants, 1433 Utica Avenue South Suite 162, Minneapolis, MN 55416, (952) 544-8133 or Robert Larson, 33 South 6th Street, Minneapolis, MN 55402, (612) 343-2913.

i. FERC Contact: Kim Carter at (202) 502-6486, or kim.carter@ferc.gov.

j. Deadline for Filing Comments: The deadline for filing comments on the Settlement is 20 days from the date of this notice. The deadline for filing reply comments is 30 days from the date of this notice. All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.

k. The Minnesota Department of Natural Resources (Minnesota DNR) filed a Settlement on behalf of itself, St. Anthony Falls Hydroelectric, LLC (SAF), and the Minnesota Department of Administration. The purpose of the Settlement is to resolve, among the signatories, issues related to SAF's pending application for an original major license for the Lower St. Anthony Falls Hydroelectric Project. The Settlement provides a negotiated settlement for fish turbine entrainment and requires, in lieu of SAF conducting an on-site fish turbine entrainment study, SAF pay the Minnesota DNR $27,500 annually to be used for fisheries management and enhancement/or mitigation projects in the project area.

l. A copy of the Settlement is available for review at the Commission in the Public Reference Room or may be viewed on the Commission's Web site at http://www.ferc.gov, using the “eLibrary” link. Enter the docket number excluding the last three digits in the docket number field to access the document. For assistance, contact FERC Online Support at FERCOnlineSupport@ferc.gov or toll-free at 1-866-208-3676, or for TTY, (202) 502-8659. Copies are also available for inspection and reproduction at the addresses in item h above.

Register online at http://www.ferc.gov/esubscribenow.htm to be notified via e-mail of new filings and issuances related to this or other pending projects. For assistance, contact FERC Online Support.

Magalie R. Salas,
Secretary.

[FR Doc. E4-2835 Filed 10-22-04; 8:45 am]

BILLING CODE 6717-01-P